DEPARTMENT OF AGRICULTURE

Forest Service

Availability of a Draft Environmental Assessment for Amendment No. 21 to the Hiawatha National Forest Land and Resource Management Plan; Alger County, Michigan

AGENCY: Forest Service, USDA.

ACTION: Notice of availability of a draft environmental assessment.

SUMMARY: On December 5, 2000, Hiawatha National Forest Supervisor, Clyde N. Thompson (Responsible Official) announced his preferred alternative for a Draft Environmental Assessment that would amend the 1986 Hiawatha National Forest Land and Resource Management Plan (Forest Plan) in a 30-day pre-decision period. This amendment updates the standards and guidelines for Grand Island Research Natural Area (GI-RNA), creates a new Management Area 8.1.2 specific to GI-RNA and updates the GI-RNA Establishment Record. This notice is provided pursuant to National Forest System Land and Resource Management Planning regulations (36 CFR 219.35, 65 FR 67579, November 9, 2000). Copies of the Draft Environmental Assessment are available upon request.

DATES: On December 5, 2000, Hiawatha National Forest Supervisor, Clyde N. Thompson (Responsible Official) announced his preferred alternative for a Draft Environmental Assessment that would amend the 1986 Hiawatha National Forest Land and Resource Management Plan (Forest Plan). A legal notice was published in the Escanaba Daily Press, Escanaba, Michigan newspaper in accordance with 36 CFR 217.8(a)(2) on December 5, 2000.

ADDRESSES: Send requests for documents to: Forest Supervisor, Hiawatha National Forest, 2727 North Lincoln Road, Escanaba, MI 49829.

Alternatively, direct electronic mail to: pbeyer@fs.fed.us ATTN: GI-RNA Amendment.

FOR FURTHER INFORMATION CONTACT: Patty Beyer, Project Coordinator, at 906-228-9681. TDD 906-789-3337; or direct electronic mail to: pbeyer@fs.fed.us, or access the forest web page at http://www.fs.fed.us/r9/hiawatha.

Responsible Official: Clyde N. Thompson, Forest Supervisor, 2727 North Lincoln Rd., Escanaba, Michigan, 49829.

SUPPLEMENTARY INFORMATION: The proposed Forest Plan Amendment No. 21 describes site-specific standards and guidelines that allow for existing recreation use while reducing resource impacts to the GI-RNA. These standards and guidelines offer protection of soils, watershed, botanical communities, old growth, Great Lakes shoreline and heritage resources. The preferred alternative maintains the historic use patterns of Grand Island within the GI-RNA. This is non-significant amendment.

Public involvement was an important part of the decision making process for this proposal. On December 9, 1999 a public scoping letter was sent to over 700 interested parties and a notice was published in the local newspaper. A second round of public involvement occurred with the issuance of the pre-decisional environmental assessment on December 1, 2000. We published a legal notice notifying the public of the availability of the EA for review in the Escanaba Daily Press, Escanaba, Michigan on December 5, 2000. A 30-day comment period follows release of the pre-decisional EA on December 5, 2000 for review (until January 5, 2001). A final decision is expected in January 2001.

This decision will be subject to appeal pursuant to USDA Forest Service regulations 36 CFR 217.3. Any written appeal must be postmarked or submitted to the Regional Forester, USDA Forest Service, Eastern Region, 310 West Wisconsin Ave., Suite 500, Milwaukee, WI 53203, within 45 days of the date the legal notice will be published in the Escanaba Daily Press, Escanaba, Michigan in accordance with 36 CFR 217.8(a)(2). The appeal period begins the day following the legal notice publication in the Escanaba Daily Press. Appeals must meet the content requirements of 36 CFR 217.9. The Forest Service is an equal opportunity organization.

Dated: December 18, 2000.
Clyde N. Thompson,
Forest Supervisor.

[FR Doc. 01-143 Filed 1-3-01; 8:45 am]

BILLING CODE 3410-11-M